DEPARTMENT OF TRANSPORTATION

Federal Aviation Administration

14 CFR Part 39

[Docket No. FAA-2009-0869; Directorate Identifier 2009-CE-043-AD]

RIN 2120-AA64

Airworthiness Directives; Vulcanair S.p.A. Models P 68, P 68B, P 68C, P 68C-TC, and P 68 “OBSERVER” Airplanes

AGENCY: Federal Aviation Administration (FAA), Department of Transportation (DOT).

ACTION: Notice of proposed rulemaking (NPRM).

SUMMARY: We propose to supersede Airworthiness Directive (AD) 85-08-04, which applies to certain Vulcanair S.p.A. (Vulcanair) Models P 68, P 68B, P 68C, P 68C-TC, and P 68 “OBSERVER” airplanes. AD 85-08-04 currently requires you to repetitively visually inspect the front and rear wing spars for cracks. If cracks are found, AD 85-08-04 requires you to modify the wing spars. The wing spar modification terminates the repetitive inspection AD action and may be installed before cracks develop. Since we issued AD 85-08-04, the manufacturer revised the modification kit and identified additional airplane serial numbers that require the inspection and/or modification. Consequently, this proposed AD would retain the actions of AD 85-08-04, allow you to install the revised modification kit, and add additional serial numbers to the Applicability section. We are proposing this AD to detect and correct cracks in the front and rear wing spar, which could result in the wing separating from the airplane. This failure could lead to loss of control.

DATES: We must receive comments on this proposed AD by November 5, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Vulcanair S.p.A., Via G. Pascoli, 7, Casoria (Naples) 80026 Italy; telephone: (+39)081.5918111; fax: (+39)081.5918172; e-mail: customerservice@vulcanair.com; Internet: http://www.vulcanair.com.

FOR FURTHER INFORMATION CONTACT: Sarjapur Nagarajan, Aerospace Engineer, ACE-112, FAA, Small Airplane Directorate, 901 Locust, Room 301, Kansas City, Missouri 64106; telephone: (816) 329-4145; fax: (816) 329-4090.

SUPPLEMENTARY INFORMATION:

Comments Invited

We invite you to send any written relevant data, views, or arguments regarding this proposed AD. Send your comments to an address listed under the ADDRESSES section. Include the docket number, “FAA-2009-0869; Directorate Identifier 2009-CE-043-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

Reports of cracks in the front and rear wing spar on Vulcanair P 68 series airplanes caused us to issue AD 85-08-04, Amendment 39-5037 (50 FR 14370, April 12, 1985). AD 85-08-04 currently requires the following on certain Vulcanair Models P 68, P 68B, P 68C, P 68C-TC, and P 68 “OBSERVER” airplanes:

• Repetitively visually inspecting the front and rear wing spars;

• Repairing the front and rear wing spars if cracks are found; and

• Modifying the front and rear spar if cracks are found or as a terminating action to the repetitive inspections.

Since we issued AD 85-08-04, the manufacturer revised the modification kit and identified additional airplane serial numbers that require the inspection and/or modification.

This condition, if not corrected, could result in the wing separating from the airplane. This failure could lead to loss of control.

Relevant Service Information

We have reviewed Partenavia Costruzioni Aeronautiche S.p.A. Service Bulletin No. 65 Rev. 3, dated September 30, 1985.

The service information describes procedures for:

• Inspecting the front and rear wing spars for cracks;

• Repairing the front and rear spars if cracks are found; and

• Installing a front and rear spar modification kit.

FAA's Determination and Requirements of the Proposed AD

We are proposing this AD because we evaluated all information and determined the unsafe condition described previously is likely to exist or develop on other products of the same type design. This proposed AD would supersede AD 85-08-04 with a new AD that would retain the actions of AD 85-08-04, allow you to install the revised modification kit, and add additional serial numbers to the Applicability section. This proposed AD would require you to use the service information described previously to perform these actions.

Costs of Compliance

We estimate that this proposed AD would affect 81 airplanes in the U.S. registry.

We estimate the following costs to do the proposed inspection:

Labor cost | Parts cost | Total cost per airplane | Total cost on U.S. operators
24 work-hours × $80 per hour = $1,920 | Not applicable | $1,920 | $155,520

We estimate the following costs to do any necessary repair and modification that would be required based on the results of the proposed inspection. We have no way of determining the number of airplanes that may need this repair/replacement:

Labor cost | Parts cost | Total cost per airplane
100 work-hours × $80 per hour = $8,000 | $700 | $8,700

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 85-08-04, Amendment 39-5037 (50 FR 14370, April 12, 1985), and adding the following new AD:

Vulcanair S.p.A.: Docket No. FAA-2009-0869; Directorate Identifier 2009-CE-043-AD.

Comments Due Date

(a) We must receive comments on this airworthiness directive (AD) action by November 5, 2009.

Affected ADs

(b) This AD supersedes AD 85-08-04, Amendment 39-5037.

Applicability

(c) This AD applies to Models P 68, P 68B, P 68C, P 68C-TC, and P 68 “OBSERVER” airplanes, serial numbers 001 through 356, that are certificated in any category.

Unsafe Condition

(d) This AD results from reports of cracks in the front and rear wing spars. We are issuing this AD to detect and correct cracks in the front and rear wing spars, which could result in the wing separating from the airplane. This failure could lead to loss of control.

Compliance

(e) For airplane serial numbers 001 through 328, to address this problem, you must do the following, unless already done:

Actions | Compliance | Procedures
(1) Visually inspect the front and rear wing spars for cracks. | Initially inspect within the next 100 hours time-in-service (TIS) after May 17, 1985 (the effective date of AD 85-08-04), or upon reaching 2,100 hours total TIS, whichever occurs later, and repetitively inspect thereafter at intervals not to exceed 500 hours TIS | Follow Partenavia Costruzioni Aeronautiche S.p.A. Service Bulletin No. 65 Rev. 3, dated September 30, 1985; or Partenavia Costruzioni Aeronautiche S.p.A. Service Bulletin No. 65 Rev. 1, dated September 27, 1984.
(2) Repair all cracks found and modify the front and rear wing spars. | Before further flight after any inspection specified in paragraph (e)(1) of this AD where cracks are found | Follow Partenavia Costruzioni Aeronautiche S.p.A. Service Bulletin No. 65 Rev. 3, dated September 30, 1985; or Partenavia Costruzioni Aeronautiche S.p.A. Service Bulletin No. 65 Rev. 1, dated September 27, 1984.
(3) At any time after the effective date of this AD, you may modify the front and rear wing spar to terminate the repetitive inspection requirements of this AD. | Not applicable | Follow Partenavia Costruzioni Aeronautiche S.p.A. Service Bulletin No. 65 Rev. 3, dated September 30, 1985; or Partenavia Costruzioni Aeronautiche S.p.A. Service Bulletin No. 65 Rev. 1, dated September 27, 1984.

(f) For airplane serial numbers 329 through 356, to address this problem, you must do the following, unless already done:

Actions | Compliance | Procedures
(1) Visually inspect the front and rear wing spars for cracks. | Initially within the next 100 hours TIS after the effective date of this AD, or upon reaching 2,100 total hours TIS, whichever occurs later and repetitively inspect thereafter at intervals not to exceed 500 hours TIS | Follow Partenavia Costruzioni Aeronautiche S.p.A. Service Bulletin No. 65 Rev. 3, dated September 30, 1985.
(2) Repair all cracks found and modify the front and rear wing spars. | Before further flight after any inspection specified in paragraph (f)(1) of this AD where cracks are found | Follow Partenavia Costruzioni Aeronautiche S.p.A. Service Bulletin No. 65 Rev. 3, dated September 30, 1985.
(3) At any time after the effective date of this AD, you may modify the front and rear wing spar to terminate the repetitive inspection requirements of this AD. | Not applicable | Follow Partenavia Costruzioni Aeronautiche S.p.A. Service Bulletin No. 65 Rev. 3, dated September 30, 1985.

Alternative Methods of Compliance (AMOCs)

(g) The Manager, Small Airplane Directorate, FAA, has the authority to approve AMOCs for this AD, if requested using the procedures found in 14 CFR 39.19. Send information to ATTN: Sarjapur Nagarajan, Aerospace Engineer, ACE-112, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(h) AMOCs approved for AD 85-08-04 are approved for this AD.

Related Information

(i) To get copies of the service information referenced in this AD, contact Vulcanair S.p.A., Via G. Pascoli, 7, Casoria (Naples) 80026 Italy; telephone: (+39)081.5918111; fax: (+39)081.5918172; e-mail: customerservice@vulcanair.com; Internet: http://www.vulcanair.com. To view the AD docket, go to U.S. Department of Transportation, Docket Operations, M-30, West Building Ground Floor, Room W12-140, 1200 New Jersey Avenue, SE., Washington, DC 20590, or on the Internet at http://www.regulations.gov.

Issued in Kansas City, Missouri, on September 15, 2009.
Scott A. Horn,
Acting Manager, Small Airplane Directorate, Aircraft Certification Service.

[FR Doc. E9-22640 Filed 9-18-09; 8:45 am]

BILLING CODE 4910-13-P